DEPARTMENT OF HOMELAND SECURITY

Coast Guard

33 CFR Part 117

[CGD13-04-001]

Drawbridge Operation Regulations; Hoquiam River, Aberdeen, WA

AGENCY: Coast Guard, DHS.

ACTION: Notice of temporary deviation from regulations.

SUMMARY: The Commander, Thirteenth Coast Guard District, has issued a temporary deviation from the regulation governing the operation of the Simpson Avenue Drawbridge at mile 0.5 and the Riverside Avenue Drawbridge at mile 0.9 across the Hoquiam River at Aberdeen, Washington. This deviation allows the bridges to temporarily operate on two-hour notice for all openings for vessels. The deviation is necessary to facilitate seismic retrofit of the structures.

DATES: This deviation is effective from 6 a.m., February 16 through 6 p.m., April 15, 2004.

ADDRESSES: Materials referred to in this document are available for inspection or copying at Commander (oan), Thirteenth Coast Guard District, 915 Second Avenue, Seattle, Washington 98174-1067 between 7:45 a.m. and 4:15 p.m., Monday through Friday, except Federal holidays. The telephone number is (206) 220-7270. The Bridge Section of the Aids to Navigation and Waterways Management Branch maintains the public docket for this temporary deviation.

FOR FURTHER INFORMATION CONTACT: Austin Pratt, Chief, Bridge Section, Aids to Navigation and Waterways Management Branch, (206) 220-7282.

SUPPLEMENTARY INFORMATION: Washington State Department of Transportation (WSDOT) requested this deviation from normal operations to facilitate seismic retrofit. The containment system for contaminants and other equipment must be modified or removed in order to operate the movable spans. Currently, the draws need not open for the passage of vessels unless one hour notice is provided at all times. Vessels on the related reach of the waterway should be able to provide at least two hours notice for openings without unreasonable inconvenience.

In accordance with 33 CFR 117.35(c), this work will be performed with all due speed in order to return the bridge to normal operation as soon as possible. This deviation from the operating regulations is authorized under 33 CFR 117.35.

Dated: January 20, 2004.
Jeffrey M. Garrett,
Rear Admiral, U.S. Coast Guard, Commander, Thirteenth Coast Guard District.

[FR Doc. 04-1644 Filed 1-26-04; 8:45 am]

BILLING CODE 4910-15-P